INTERNATIONAL TRADE COMMISSION

[Investigation Nos. 701-TA-522 and 731-TA-1258 (Review)]

Passenger Vehicle and Light Truck Tires From China; Determinations

On the basis of the record ¹ developed in the subject five-year reviews, the United States International Trade Commission (“Commission”) determines, pursuant to the Tariff Act of 1930 (“the Act”), that revocation of the antidumping and countervailing duty orders on passenger vehicle and light truck tires from China would be likely to lead to continuation or recurrence of material injury to an industry in the United States within a reasonably foreseeable time.²

¹ The record is defined in § 207.2(f) of the Commission's Rules of Practice and Procedure (19 CFR 207.2(f)).

² Commissioner David S. Johanson dissenting.

Background

The Commission instituted these reviews on July 1, 2020 (85 FR 39581) and determined on October 5, 2020 that it would conduct expedited reviews (86 FR 2456, January 12, 2021).

The Commission made these determinations pursuant to section 751(c) of the Act (19 U.S.C. 1675(c)). It completed and filed its determinations in these reviews on February 5, 2021. The views of the Commission are contained in USITC Publication 5158 (February 2021), entitled Passenger Vehicle and Light Truck Tires from China: Investigation Nos. 701-TA-522 and 731-TA-1258 (Review).

By order of the Commission.
Issued: February 5, 2021.
Lisa Barton,
Secretary to the Commission.

[FR Doc. 2021-02801 Filed 2-10-21; 8:45 am]

BILLING CODE 7020-02-P